DEPARTMENT OF JUSTICE

Notice of Lodging of Consent Decree Under the Clean Air Act

On August 25, 2005, Notice of Lodging of a Consent Decree was published in the Federal Register (Volume 70, Number 164, Page 49950-49951). That Notice contains a typographical error; the inclusion of the word “million” after “$500,000.” The following is the corrected Notice.

In accordance with Departmental Policy, 28 U.S.C. 50.7, notice is hereby given that on August 18, 2005, a proposed Consent Decree in United States v. Cosmed Group, Inc., Civil Action No. 05353ML, was lodged with the United States District Court for the District of Rhode Island.

In this action the United States, on behalf of the United States Environmental Protection Agency (“EPA”), filed a complaint against Cosmed Group, Inc. (“Cosmed”) alleging various violations of the Clean Air Act and the Illinois State Implementation Plan, concerning Cosmed's current or former facilities in Coventry, RI, South Plainfield, NJ, Baltimore, MD, Waukegan, IL, Grand Prairie, TX, and San Diego, CA. Under the terms of the proposed settlement, Cosmed will pay a civil penalty of $500,000 and fund Supplemental Environmental Projects providing environmental and public health benefits in and around Camden, NJ, Lake County, IL, Dallas, TX, and San Diego, CA at a cost of $1 million.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Cosmed Group, Inc., D.J. Ref. 90-5-2-1-08115.

The Consent Decree may be examined at the Office of the United States Attorney, District of Rhode Island, 50 Kennedy Plaza, 8th Floor, Providence, Rhode Island 02903, and at the United States Environmental Protection Agency, Region 1 (New England Region), One Congress Street, Boston, Massachusetts 02114. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547.

In requesting a copy from the Consent Decree Library, please enclose a check in the amount of $23.75 (25 cents per page reproduction cost) payable to the U.S. Treasury.

Ronald G. Gluck,
Assistant Section Chief, Environmental Enforcement Section, Environment and Natural Resources Division.

[FR Doc. 05-17376 Filed 8-31-05; 8:45 am]

BILLING CODE 4410-15-M